DEPARTMENT OF TRANSPORTATION

Federal Motor Carrier Safety Administration

[Docket No. FMCSA-2021-0143]

Agency Information Collection Request Concerning Certain Motor Carrier Activities When Responding to Emergency Declarations Under OMB Review

AGENCY: Federal Motor Carrier Safety Administration (FMCSA), Department of Transportation (DOT).

ACTION: Notice of request for emergency OMB approval.

SUMMARY: In compliance with the Paperwork Reduction Act (PRA) of 1995, this notice announces that the new Information Collection Request (ICR) discussed below has been forwarded to the Office of Management and Budget (OMB) for review and an emergency approval of a new information collection. FMCSA would collect this information from motor carriers engaged in providing direct assistance in response to certain emergency declarations issued by the Agency to provide regulatory relief for such carriers in continued support of the Nation's coronavirus disease 2019 (COVID-19) recovery efforts. The ICR describes the nature of the information collection and their expected paperwork burdens. FMCSA requests that OMB approve this collection within 7 days.

DATES: Comments must be submitted on or before August 30, 2021.

ADDRESSES: Written comments and recommendations for the proposed information collection should be sent by August 30, 2021, to www.reginfo.gov/public/do/PRAMain. All comments received are part of the public record. Comments will generally be posted without change. Upon receiving the requested 6-month emergency approval by OMB, FMCSA will follow the normal PRA procedures to obtain extended approval for this proposed information collection.

FOR FURTHER INFORMATION CONTACT: Larry W. Minor, Associate Administrator, Office of Policy, Department of Transportation, Federal Motor Carrier Safety Administration, 6th Floor, West Building, 1200 New Jersey Avenue SE, Washington, DC 20590-0001; 202-366-4012; larry.minor@dot.gov. Office hours are from 9 a.m. to 5 p.m., Monday through Friday, except Federal Holidays.

SUPPLEMENTARY INFORMATION:

Title: Acknowledgement of use of COVID-19 Emergency Declaration Relief.

OMB Control Number: 2126-TBD.

Type of Request: Request for emergency approval of an information collection.

Respondents: Motor carriers that operate under the terms of the extended COVID-19 Emergency Declaration No. 2020-002.

Estimated Total Respondents: 203,894.

Estimated Total Responses: 1,223,364 for 6 months.

Estimated Burden Hours: 305,841 for 6 months.

Estimated Burden per Response: 15 minutes per response.

Frequency: Monthly for 6 months.

Background

FMCSA issued Emergency Declaration No. 2020-002 in response to the March 13, 2020, declaration of a national emergency under 42 U.S.C. 5191(b) related to COVID-19, and the immediate risk COVID-19 presents to public health and welfare. FMCSA modified Emergency Declaration 2020-002 to expand and remove categories of supplies, equipment, and persons covered by the Emergency Declaration to respond to changing needs for emergency relief. On May 26, 2021, FMCSA extended the modified Emergency Declaration No. 2020-002 and associated regulatory relief through August 31, 2021, in accordance with 49 CFR 390.25. FMCSA continued the exemption and associated regulatory relief in accordance with 49 CFR 390.25, because the presidentially declared emergency remained in place and because a continued exemption was needed to support direct emergency assistance for some supply chains. This extension of the expanded modified Emergency Declaration addresses conditions that create a need for immediate transportation of essential supplies and provides necessary relief from the Federal Motor Carrier Safety Regulations (FMCSRs) for motor carriers and drivers.

In accordance with the expanded modified Emergency Declaration No. 2020-002, motor carriers and drivers providing direct assistance in support of relief efforts related to the COVID-19 public health emergency are granted emergency relief from certain portions of 49 CFR parts 390 through 399 of the FMCSRs, except as restricted in the Emergency Declaration. Direct assistance means transportation and other relief services provided by a motor carrier or its driver(s) incident to the immediate restoration of essential services (such as medical care) or essential supplies related to COVID-19 during the emergency. The notice extending the declaration provides a list of relief services and essential supplies.

Neither the Emergency Declaration nor the regulations covering Emergency Declarations (found in 49 CFR 390.23 and 390.25) require that motor carriers or drivers operating under the Emergency Declaration report their operation to FMCSA. As a result, FMCSA does not know how many motor carriers or drivers are relying on the Emergency Declaration. Given the unprecedented period that the expanded modified Emergency Declaration No. 2020-0022 has now been in place, FMCSA has determined that it is necessary to seek information on the number of motor carriers and drivers relying upon Emergency Declaration No. 2020-002, and any subsequent extension currently in effect, to evaluate the need for future extensions or modifications if that Agency determines that additional extensions are needed.

Public Comments Invited

You are asked to comment on any aspect of this information collection, including: (1) Whether the proposed collection is necessary for FMCSA to perform its functions; (2) the accuracy of the estimated burden; (3) ways for FMCSA to enhance the quality, usefulness, and clarity of the collected information; and (4) ways that the burden could be minimized without reducing the quality of the collected information.

Issued under the authority delegated in 49 CFR 1.87.

Thomas P. Keane,
Associate Administrator, Office of Research and Registration.

[FR Doc. 2021-18442 Filed 8-26-21; 8:45 am]

BILLING CODE 4910-EX-P